GENERAL SERVICES ADMINISTRATION

[OMB Control NO. 3090-00XX]

Office of Facilities Management and Program Services; Submission for OMB Review; Background Check Investigations for Child Care Workers

AGENCY: Office of Facilities Management and Program Services, Public Building Service (PBS), U.S. General Services Administration (GSA).

ACTION: Notice of request for comments regarding a new OMB information collection.

SUMMARY: Under the provisions of the Paperwork Reduction Act of 1995 (44 U.S.C. Chapter 35), the General Services Administration will be submitting to the Office of Management and Budget (OMB) a request to review and approve the new information collection requirement regarding the collection of personal data for background check investigations for child care workers accessing GSA owned and leased controlled facilities.

Public comments are particularly invited on: Whether this collection of information is necessary and whether it will have practical utility; whether our estimate of the public burden of this collection of information is accurate, and based on valid assumptions and methodology; ways to enhance the quality, utility, and clarity of the information to be collected.

DATES: Submit comments on or before: July 20, 2009.

FOR FURTHER INFORMATION CONTACT: Ms. Layna Koentopf, Program Analyst, Building Security and Policy Division, GSA, 1800 F Street, NW., Washington, DC 20405; or telephone (202) 208-1585. Please cite OMB Control No. 3090-00XX, Background Check Investigations for Child Care Workers.

ADDRESSES: Submit comments regarding this burden estimate or any other aspect of this collection of information, including suggestions for reducing this burden to the GSA Desk Officer, OMB, Room 10236, NEOB, Washington, DC 20503, and a copy to the Regulatory Secretariat (VPR), U.S. General Services Administration, 1800 F Street, NW., Room 4041, Washington, DC 20405. Please cite Background Check Investigations for Child Care Workers, in all correspondence.

SUPPLEMENTARY INFORMATION:

A. Purpose

Homeland Security Presidential Directive (HSPD) 12 “Policy for a Common Identification Standard for Federal Employees and Contractors” requires the implementation of a governmentwide standard for secure and reliable forms of identification for Federal employees and contractors. OMB's implementing instructions requires all contract employees requiring routine access to Federally controlled facilities for greater than six (6) months to receive a background investigation. The minimum background investigation is the National Agency Check with Written Inquiries or NACI.

However, there is no requirement in the law or HSPD-12 that requires child care employees to be subject to the NACI since employees of child care providers are neither government employees nor government contractors. Instead, the child care providers are required to complete the criminal history background checks mandated in the Crime Control Act of 1990, Public Law 101-647, dated November 29, 1990, as amended by Public Law 102-190, dated December 5, 1991. These statutes require that each employee of a child care center located in a Federal building or in leased space must undergo a background check.

According to GSA policy, child care workers (as described above) will need to submit the following:

1. An original signed copy of a Basic National Agency Check Criminal History, GSA Form 176; and

2. Two sets of fingerprints on FBI Fingerprint Cards, for FD-258.

This information was previously collected on either the old Federal Protective Service 176 Form or the SF85P. This is a request to replace the form with the GSA Form 176. The new GSA form will be less of a public burden.

Please Note: The original request to review and approve the new information collection requirement regarding the collection of personal data for background check investigations was for both temporary contractors and child care workers accessing GSA owned and leased controlled facilities. However, through discussions with OMB a more streamlined process will be developed for conducting background checks on temporary contractors. GSA is therefore pulling the request for review and approval of the collection of personal data for background check investigations of temporary contractors, form GSA 176T, presented in the Federal Register publication of February 17, 2009, 74 FR 7439. GSA is proceeding with the request for review and approval for background check investigations of child care workers, form GSA 176C—to be referred to as form GSA 176, Background Check Investigations for Child Care Workers.

B. Annual Reporting Burden

Respondents: 3,060.

Responses per Respondent: 1.

Hours per Response: 1.

Total Burden Hours: 3,060.

Obtaining Copies of Proposals: Requesters may obtain a copy of the information collection documents from the General Services Administration, Regulatory Secretariat (VPR), 1800 F Street, NW., Room 4041, Washington, DC 20405, telephone (202) 501-4755. Please cite Background Check Investigations for Child Care Workers, in all correspondence.

Dated: June 12, 2009.
Casey Coleman,
Chief Information Officer, General Services Administration.

[FR Doc. E9-14468 Filed 6-18-09; 8:45 am]

BILLING CODE 6820-23-P